DEPARTMENT OF ENERGY

Federal Energy Regulatory Commission

Sunshine Act Meetings

The following notice of meeting is published pursuant to section 3(a) of the government in the Sunshine Act (Pub. L. 94-409), 5 U.S.C. 552b:

Agency Holding Meeting: Federal Energy Regulatory Commission.

TIME AND DATE: September 20, 2018 10:00 a.m.

PLACE: Room 2C, 888 First Street NE, Washington, DC 20426.

STATUS: Open.

MATTERS TO BE CONSIDERED: Agenda

Note: Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1047th—Meeting
[Open Meeting September 20, 2018 10:00 p.m.]
Item No. | Docket No. | Company
ADMINISTRATIVE
A-1 | AD18-2-000 | Customer Matters, Reliability, Security and Market Operations.
A-2 | AD18-1-000 | Agency Administrative Matters.
A-3 | AD18-17-000 | Memorandum of Understanding Between the Department of Transportation and the Federal Energy Regulatory Commission Regarding Liquefied Natural Gas Transportation Facilities.
ELECTRIC
E-1 | EL18-152-000 | Louisiana Public Service Commission v. System Energy Resources, Inc. and Entergy Services, Inc.
E-2 | EL16-120-002 | New England Power Generators Association, Inc. v. ISO New England Inc.
| ER17-2153-002 | ISO New England. Inc.
| ER18-1153-000 | ISO New England, Inc.
E-3 | ER10-1791-004 | Midwest Independent Transmission System Operator, Inc.
E-4 | ER17-2073-001 | PJM Interconnection, L.L.C.
E-5 | ER17-2267-001 | PJM Interconnection, L.L.C.
E-6 | ER14-2154-006 ER15-277-005 (consolidated) | Midcontinent Independent System Operator, Inc.
E-7 | EL17-44-000 | Northern States Power Company, Minnesota.
E-8 | EL18-145-000 | Tilton Energy LLC v. PJM Interconnection, L.L.C.
E-9 | ER14-1409-000 | ISO New England Inc.
E-10 | EL18-131-000 | Nevada Hydro Company, Inc.
E-11 | ER17-1750-002 | Pacific Gas and Electric Company.
GAS
G-1 | OMITTED
G-2 | OMITTED
G-3 | OR18-7-000 | Epsilon Trading, LLC, Chevron Products Company, and Valero Marketing and Supply Company v. Colonial Pipeline Company.
| OR18-12-000 | BP Products North America, Inc., Trafigura Trading LLC, and TCPU, Inc. v. Colonial Pipeline Company.
| OR18-17-000 | TransMontaigne Product Services LLC v. Colonial Pipeline Company.
| OR18-21-000 (consolidated) | CITGO Petroleum Corporation v. Colonial Pipeline Company.
HYDRO
H-1 | EL18-56-000 P-12966-005 | Utah Board of Water Resources.
H-2 | P-2611-087 | Hydro-Kennebec LLC.
CERTIFICATES
C-1 | CP09-465-002 | Northern Natural Gas Company.
C-2 | CP17-219-000 | Southern Star Central Gas Pipeline, Inc.

Issued: September 13, 2018.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2018-20619 Filed 9-18-18; 4:15 pm]

BILLING CODE 6717-01-P